DEPARTMENT OF TRANSPORTATION

Federal Aviation Administration

14 CFR Part 39

[Docket No. FAA-2025-0751; Project Identifier MCAI-2024-00305-T; Amendment 39-23235; AD 2026-01-07]

RIN 2120-AA64

Airworthiness Directives; Bombardier, Inc., Airplanes

AGENCY: Federal Aviation Administration (FAA), DOT.

ACTION: Final rule.

SUMMARY: The FAA is adopting a new airworthiness directive (AD) for all Bombardier, Inc., Model BD-100-1A10 airplanes. This AD was prompted by a determination that new or more restrictive airworthiness limitations are necessary. This AD requires revising the existing maintenance or inspection program, as applicable, to incorporate new or more restrictive airworthiness limitations. The FAA is issuing this AD to address the unsafe condition on these products.

DATES: This AD is effective February 20, 2026.

The Director of the Federal Register approved the incorporation by reference of certain publications listed in this AD as of February 20, 2026.

ADDRESSES:

AD Docket: You may examine the AD docket at regulations.gov under Docket No. FAA-2025-0751; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material identified in this AD, contact Bombardier Business Aircraft Customer Response Center, 400 Côte-Vertu Road West, Dorval, Québec H4S 1Y9, Canada; telephone 514-855-2999; email ac.yul@aero.bombardier.com; website my.bombardier.com.

• You may view this material at the FAA, Airworthiness Products Section, Operational Safety Branch, 2200 South 216th St., Des Moines, WA. For information on the availability of this material at the FAA, call 206-231-3195. It is also available at regulations.gov under Docket No. FAA-2025-0751.

FOR FURTHER INFORMATION CONTACT: John Massey, Aviation Safety Engineer, FAA, 1600 Stewart Avenue, Suite 410, Westbury, NY 11590; phone: 516-228-7300; email: 9-avs-nyaco-cos@faa.gov.

SUPPLEMENTARY INFORMATION:

Background

The FAA issued a notice of proposed rulemaking (NPRM) to amend 14 CFR part 39 by adding an AD that would apply to all Bombardier, Inc., Model BD-100-1A10 airplanes. The NPRM was published in the Federal Register on May 7, 2025 (90 FR 19264). The NPRM was prompted by AD CF-2024-17, dated May 23, 2024 (also referred to as the MCAI), issued by Transport Canada, which is the aviation authority for Canada. The MCAI states that new or more restrictive airworthiness limitations have been developed.

In the NPRM, the FAA proposed to revise the existing maintenance or inspection program, as applicable, to incorporate new or more restrictive airworthiness limitations. The FAA is issuing this AD to address potential structural, control system, and navigational system failures. The unsafe condition, if not addressed, could result in loss of control of the airplane.

You may examine the MCAI in the AD docket at regulations.gov under Docket No. FAA-2025-0751.

Discussion of Final Airworthiness Directive

Comments

The FAA received comments from an anonymous commenter and Bombardier. The anonymous commenter expressed appreciation for the length of the comment period. The following presents Bombardier's comments to the NPRM and the FAA's response.

Request To Revise Website Address

Bombardier recommended that the FAA change Bombardier's website address in the proposed AD to http://my.bombardier.com/. The commenter noted that this address is a direct and secure link to the Bombardier customer portal where the material that would be required by the proposed AD can be obtained. Bombardier stated that certain persons may have difficulty locating the Bombardier customer portal using the address provided in the proposed AD.

The FAA partially agrees and has instead changed the website address to “my.bombardier.com” in this AD. The FAA notes this address redirects users to Bombardier's secure customer portal.

Request To Revise the Unsafe Condition

Bombardier requested that the FAA revise the unsafe condition of the proposed AD to state the FAA is proposing this AD to address any potential unsafe condition that could arise from non-compliance with the new or more restrictive limitations. Bombardier did not provide justification for the suggested change.

The FAA disagrees. The FAA must provide operators with notice of any potential unsafe condition and the end-level effect of the unsafe condition. In ADs for airworthiness limitations, the unsafe condition typically includes a summary of the affected systems or parts addressed by the airworthiness limitations. In the case of this AD, the new or more restrictive airworthiness limitations required by this AD address structural, control system, and navigational system failures. The FAA has not changed this AD in this regard.

Request To Allow Use of Later Revisions of the Service Information

Bombardier requested that the FAA revise paragraphs (g)(1) and (2) of the proposed AD to allow later revisions of the service information to be used for compliance.

The FAA agrees to revise paragraph (g) of this AD to clarify that using a later revision of Part 2, “Airworthiness Limitations,” Bombardier Challenger 300 Time Limits/Maintenance Checks (TLMC), Publication No. CH 300 TLMC, Revision 24, dated August 9, 2023; and Part 2, “Airworthiness Limitations,” Bombardier Challenger 350 TLMC, Publication No. CH 350 TLMC, Revision 14, dated August 9, 2023; as applicable, is acceptable for compliance with the requirements of paragraph (g) of this AD, provided that the information in the later revision is identical to that contained in Part 2, “Airworthiness Limitations,” of the applicable TLMC manual. As long as the information in the later revision of the applicable TLMC manual is identical, an operator can show compliance with those airworthiness limitations without having to request an alternative method of compliance (AMOC) under the provisions of paragraph (i)(1) of this AD.

Request To Not Publish the Required Service Information

Bombardier stated that it considers Bombardier Challenger 300 Time Limits/Maintenance Checks (TLMC), Publication No. CH 300 TLMC, and Bombardier Challenger 350 TLMC, Publication No. CH 350 TLMC, and all associated temporary revisions to both TLMCs, to be confidential business information (CBI) or proprietary information (PROPIN).

The FAA infers that Bombardier requests the FAA refrain from publishing in the AD docket the service information that is required for compliance with this AD. The FAA disagrees. The FAA clarifies that the CBI section of the NPRM applies only to information submitted by a commenter as part of their comment, and not to documents required for compliance. Under 44 U.S.C. 3101 and 3105, the FAA is required to create and preserve records and establish safeguards against removal or loss of records. These statutes apply to the FAA's AD rulemaking activities. Accordingly, the AD docket in regulations.gov is the FAA's official repository for preserving all records for its AD rulemaking activity, which includes materials incorporated by reference. Additionally, placing this information in the docket on regulations.gov also serves to further enhance the agency's efforts to comply with the E-Government Act of 2002, which requires agencies, to the extent practicable, to “ensure that a publicly accessible Federal Government website contains electronic dockets for rulemakings under 5 U.S.C. 553.” That statute further states that these electronic dockets “shall make publicly available online, to the extent practicable, . . . other materials that by agency rule or practice are included in the rulemaking docket.” The FAA has not changed this AD in this regard.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed the following Bombardier documents:

• Part 2, “Airworthiness Limitations,” of Bombardier Challenger 300 TLMC, Publication No. CH 300 TLMC, Revision 24, dated August 9, 2023.

• Part 2, “Airworthiness Limitations,” of Bombardier Challenger 350 TLMC, Publication No. CH 350 TLMC, Revision 14, dated August 9, 2023.

This material is reasonably available because the interested parties have access to it through their normal course of business or by the means identified in the ADDRESSES section.

Costs of Compliance

The FAA estimates that this AD affects 782 airplanes of U.S. registry. The FAA estimates the following costs to comply with this AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-01-07 Bombardier, Inc.: Amendment 39-23235; Docket No. FAA-2025-0751; Project Identifier MCAI-2024-00305-T.

(a) Effective Date

This airworthiness directive (AD) is effective February 20, 2026.

(b) Affected ADs

None.

(c) Applicability

This AD applies to all Bombardier, Inc., Model BD-100-1A10 airplanes, certificated in any category.

(d) Subject

Air Transport Association (ATA) of America Code 05, Time Limits/Maintenance Checks.

(e) Unsafe Condition

This AD was prompted by a determination that new or more restrictive airworthiness limitations are necessary. The FAA is issuing this AD to address potential structural, control system, and navigational system failures. The unsafe condition, if not addressed, could result in loss of control of the airplane.

(f) Compliance

Comply with this AD within the compliance times specified, unless already done.

(g) Maintenance or Inspection Program Revision

Within 90 days after the effective date of this AD, revise the existing maintenance or inspection program, as applicable, to incorporate the information specified in Part 2, “Airworthiness Limitations,” of the applicable time limits/maintenance checks (TLMC) manual identified in paragraph (g)(1) or (2) of this AD. The initial compliance time for doing the tasks specified in Part 2, “Airworthiness Limitations,” of the applicable TLMC manual identified in paragraph (g)(1) or (2) of this AD is at the time specified in the applicable TLMC manual, or within 90 days after the effective date of this AD, whichever occurs later. Using a later revision of Part 2, “Airworthiness Limitations,” of the applicable TLMC manual with information identical to the material listed in paragraph (g)(1) or (2) of this AD, as applicable, is acceptable for compliance with the requirements of this paragraph.

(1) For Model BD-100-1A10 airplanes having serial numbers (S/Ns) 20003 through 20457 inclusive: Bombardier Challenger 300 TLMC, Publication No. CH 300 TLMC, Revision 24, dated August 9, 2023.

(2) For Model BD-100-1A10 airplanes having S/Ns 20501 through 21399 inclusive: Bombardier Challenger 350 TLMC, Publication No. CH 350 TLMC, Revision 14, dated August 9, 2023.

(h) No Alternative Actions or Intervals

After the existing maintenance or inspection program has been revised as required by paragraph (g) of this AD, no alternative actions (e.g., inspections) or intervals, may be used unless the actions or intervals are approved as an alternative method of compliance (AMOC) in accordance with the procedures specified in paragraph (i)(1) of this AD.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(j) Additional Information

For more information about this AD, contact John Massey, Aviation Safety Engineer, FAA, 1600 Stewart Avenue, Suite 410, Westbury, NY 11590; phone: 516-228-7300; email: 9-avs-nyaco-cos@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) Part 2, “Airworthiness Limitations,” of Bombardier Challenger 300 Time Limits/Maintenance Check (TLMC), Publication No. CH 300 TLMC, Revision 24, dated August 9, 2023.

(ii) Part 2, “Airworthiness Limitations,” of Bombardier Challenger 350 TLMC, Publication No. CH 350 TLMC, Revision 14, dated August 9, 2023.

(3) For Bombardier material identified in this AD, contact Bombardier Business Aircraft Customer Response Center, 400 Côte Vertu Road West, Dorval, Québec H4S 1Y9, Canada; telephone 514 855 2999; email ac.yul@aero.bombardier.com; website my.bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 13, 2026.
Steven W. Thompson,
Acting Deputy Director, Compliance & Airworthiness Division, Aircraft Certification Service.

[FR Doc. 2026-00841 Filed 1-15-26; 8:45 am]

BILLING CODE 4910-13-P